DEPARTMENT OF ENERGY

Federal Energy Regulatory Commission

[Docket No. ER00-3671-000, et al.]

Entergy Services, Inc., et al.; Electric Rate and Corporate Regulation Filings

September 18, 2000.

Take notice that the following filings have been made with the Commission:

1. Entergy Services, Inc.

[Docket No. ER00-3671-000]

Take notice that on September 14, 2000, Entergy Services, Inc., on behalf of Entergy Louisiana, Inc., tendered for filing an Interconnection and Operating Agreement with Occidental Chemical Corporation (Occidental) for Occidental's Convent, Louisiana facility, and a Generator Imbalance Agreement with Occidental.

Comment date: October 5, 2000, in accordance with Standard Paragraph E at the end of this notice.

2. The Detroit Edison Company DTE Energy Trading, Inc.

[Docket No. ER00-3672-000]

Take notice that on September 14, 2000, The Detroit Edison Company and DTE Energy Trading, Inc., tendered for filing an application requesting modification of tariffs and codes of conduct and acceptance of service agreements.

Comment date: October 5, 2000, in accordance with Standard Paragraph E at the end of this notice.

3. California Independent System Operator Corporation

[Docket No. ER00-3673-000]

Take notice that on September 14, 2000, the California Independent System Operator Corporation (ISO), tendered for filing a proposed amendment (Amendment No. 31) to the ISO Tariff. Amendment No. 31 includes proposed changes to the ISO Tariff to remove the existing termination date of the ISO's authority to disqualify Imbalance Energy and Ancillary Service bids that exceed levels specified by the ISO, and to confirm the ISO's authority to establish price caps for all of its markets.

The ISO states that this filing has been served upon the California Public Utilities Commission, the California Energy Commission, the California Electricity Oversight Board, and all parties with effective Scheduling Coordinator Service Agreements under the ISO Tariff.

Comment date: October 5, 2000, in accordance with Standard Paragraph E at the end of this notice.

4. Wisconsin Public Service Corporation

[Docket No. ER00-3677-000]

Take notice that on September 14, 2000, Wisconsin Public Service Corporation (WPSC), tendered for filing an executed Service Agreement with Consolidated Water Power Company providing for transmission service under FERC Electric Tariff, Volume No. 1.

Comment date: October 5, 2000, in accordance with Standard Paragraph E at the end of this notice.

5. Southern Indiana Gas and Electric Company

[Docket No. ER00-3678-000]

Take notice that on September 14, 2000, Southern Indiana Gas and Electric Company (SIGECO), tendered for filing a Wholesale Energy Service Agreement dated August 22, 2000, by and between Southern Indiana Gas and Electric Company and Public Service Company of Colorado. The agreement concerns the provision of electric service as an umbrella service agreement under its market-based Wholesale Power Sales Tariff:

Comment date: October 5, 2000, in accordance with Standard Paragraph E at the end of this notice.

6. PECO Energy Company

[Docket No. ER00-3679-000]

Take notice that on September 14, 2000, PECO Energy Company (PECO), tendered for filing under Section 205 of the Federal Power Act, 16 U.S.C. 792 et seq., an Agreement dated February 9, 2000 with Conectiv Energy Supply, Inc. (CESI) under PECO's FERC Electric Tariff Original Volume No. 1 (Tariff).

PECO requests an effective date of October 1, 2000 for the Agreement.

PECO states that copies of this filing have been supplied to Conectiv Energy Supply, Inc., and to the Pennsylvania Public Utility Commission.

Comment date: October 5, 2000, in accordance with Standard Paragraph E at the end of this notice.

7. Avista Corp.

[Docket No. ER00-3680-000]

Take notice that on September 14, 2000, Avista Corp. (AVA), tendered for filing with the Federal Energy Regulatory Commission executed Service Agreements for Short-Term Firm and Non-Firm Point-To-Point Transmission Service under AVA's Open Access Transmission Tariff—FERC Electric Tariff, Volume No. 8 with The Legac Energy Group, LLC.

AVA requests the Service Agreements be given a respective effective date of August 22, 2000.

Comment date: October 5, 2000, in accordance with Standard Paragraph E at the end of this notice.

8. PJM Interconnection, L.L.C.

[Docket No. ER00-3681-000]

Take notice that on September 14, 2000, PJM Interconnection, L.L.C. (PJM), tendered for filing an executed initial interconnection service agreement between PJM and Liberty Electric Power, LLC.

PJM requests a waiver of the Commission's 60-day notice requirement to permit the effective date agreed to by the parties.

Copies of this filing were served upon each of the parties to the agreements of the state regulatory commissions within the PJM control area.

Comment date: October 5, 2000, in accordance with Standard Paragraph E at the end of this notice.

9. Engelhard Power Marketing, Inc.

[Docket No. ER00-3683-000]

Take notice that on September 14, 2000, Engelhard Power Marketing, Inc., tendered for filing its Notice of Cancellation effective November 13, 2000, pursuant to Sections 35.15 and 131.53 of the Commission's Regulations, 18 CFR 35.15 and 131.53, with respect to Rate Schedules FERC Nos. 1 through 19, and any supplements thereto.

Engelhard no longer is trading electric power as a power marketer and accordingly is canceling its rates and supplements.

Comment date: October 5, 2000, in accordance with Standard Paragraph E at the end of this notice.

10. Illinois Power Company

[Docket No. ER00-3684-000]

Take notice that on September 14, 2000, Illinois Power Company (Illinois Power), 500 South 27th Street, Decatur, Illinois 62526, tendered for filing firm and non-firm transmission agreements under which Conectiv Energy Supply, Inc., will take transmission service pursuant to its open access transmission tariff. The agreements are based on the Form of Service Agreement in Illinois Power's tariff.

Illinois Power has requested an effective date of September 15, 2000.

Comment date: October 5, 2000, in accordance with Standard Paragraph E at the end of this notice.

11. Tucson Electric Power Company

[Docket No. ER00-3685-000]

Take notice that on September 14, 2000, Tucson Electric Power Company (Tucson), tendered for filing one (1) Service Agreement for Retail Network Integration Transmission Service dated August 16, 2000 with Arizona Electric Power Cooperative, Inc. (AEPCO) under Tucson's Open Access Transmission Tariff (Tariff). The Service Agreement adds AEPCO as a customer under the Tariff.

Tucson requests an effective date of August 16, 2000, for the Service Agreement.

The details of the service agreement is as follows:

(1) Service Agreement for Network Integration Transmission Service by and between Tucson Electric Power Company and Arizona Electric Power Cooperative, Inc.—FERC Electric Tariff Vol. No. 2, Service Agreement No. 141. Service commenced on August 28, 2000.

Comment date: October 5, 2000, in accordance with Standard Paragraph E at the end of this notice.

12. Virginia Electric and Power Company

[Docket No. ER00-3686-000]

Take notice that on September 14, 2000, Virginia Electric and Power Company (Virginia Power or the Company), tendered for filing (1) Service Agreement for Firm Point-to-Point Transmission Service by Virginia Electric and Power Company to NRG Power Marketing Inc. designated as Service Agreement No. 299 under the Company's FERC Electric Tariff, Second Revised Volume No. 5; (2) Service Agreement for Non-Firm Point-to-Point Transmission Service by Virginia Electric and Power Company to NRG Power Marketing Inc. designated as Service Agreement No. 300 under the Company's FERC Electric Tariff, Second Revised Volume No. 5.

The foregoing Service Agreements are tendered for filing under the Open Access Transmission Tariff to Eligible Purchasers effective June 7, 2000. Under the tendered Service Agreements, Virginia Power will provide point-to-point service to NRG Power Marketing Inc. under the rates, terms and conditions of the Open Access Transmission Tariff.

Virginia Power requests an effective date of September 14, 2000, the date of filing of the Service Agreements.

Copies of the filing were served upon NRG Power Marketing Inc., the Virginia State Corporation Commission, and the North Carolina Utilities Commission.

Comment date: October 5, 2000, in accordance with Standard Paragraph E at the end of this notice.

13. The Connecticut Light and Power Company, Western Massachusetts Electric Company, United Illuminating Company, Central Maine Power Company, Fitchburg Gas and Electric Light Company, New England Power Company, Public Service Company of New Hampshire, Dominion Resources, Inc. and Dominion Nuclear Connecticut, Inc.

[Docket Nos. EC00-137-000 and ER00-3639-000]

Take notice that on September 8, 2000, the Connecticut Light and Power Company, Western Massachusetts Electric Company, United Illuminating Company, Central Maine Power Company, Fitchburg Gas and Electric Light Company, New England Power Company, Public Service Company of New Hampshire, Dominion Resources, Inc. and Dominion Nuclear Connecticut, Inc. (DNC) (collectively, Applicants) tendered for filing an application under Section 203 of the Federal Power Act for approval of the disposition of jurisdictional facilities that will result from the sale of the Millstone Nuclear Power Station to DNC and for acceptance under Section 205 of the Federal Power Act an interconnection agreement relating to that facility, and an amendment to a transmission support agreement. Also on September 12, 2000, a supplement to the application was filed with the Commission in the above-referenced dockets.

The Applicants state that copies of the application have been mailed to Dominion Nuclear Connecticut, the Connecticut Department of Public Utility Control, the Massachusetts Department of Telecommunications and Energy, the New Hampshire Public Utilities Commission, the Vermont Public Service Board, the Maine Public Utilities Commission, the New York Public Service Commission, the New Jersey Board of Public Utilities, and the Pennsylvania Public Utility Commission.

Comment date: October 10, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-24510 Filed 9-22-00; 8:45 am]

BILLING CODE 6717-01-P